FEDERAL RESERVE SYSTEM

Formations of, Acquisitions by, and Mergers of Bank Holding Companies; Correction

Correction

In the Federal Register of June 24, 2020, in FR Doc. 2020-13633, “Formations of, Acquisitions by, and Mergers of Bank Holding Companies” pursuant to the Bank Holding Company Act of 1956 and the Board's Regulation Y, under the heading, Federal Reserve Bank of Chicago, Katz Acquisition Corporation, LLC, Tampa, Florida;, on page 37947, in the first column, at the end of the first full paragraph, the comment period end date is corrected to read July 24, 2020.

Interested persons may view the notice and submit comments as provided in 85 FR 37946 (June 24, 2020) no later than July 24, 2020.

Board of Governors of the Federal Reserve System, July 7, 2020.
Yao-Chin Chao,
Assistant Secretary of the Board.

[FR Doc. 2020-14985 Filed 7-13-20; 8:45 am]

BILLING CODE P